DEPARTMENT OF COMMERCE

Foreign-Trade Zones Board

[Docket 24-2003]

Foreign-Trade Zone 43—Battle Creek, MI; Application for Subzone, Perrigo Company (Pharmaceutical Products), Allegan and Muskegon Counties, MI; Correction

The Federal Register notice (68 FR 27985-27986, 5/22/2003) describing the application by the City of Battle Creek, Michigan, grantee of FTZ 43, requesting special-purpose subzone status for the pharmaceutical manufacturing and distribution facilities of Perrigo Company (Perrigo) at locations in Allegan and Muskegon Counties, Michigan, is corrected as follows:

Paragraph 6 should read “The closing period for their receipt is July 21, 2003.”

Dated: June 6, 2003.
Dennis Puccinelli,
Executive Secretary.

[FR Doc. 03-15152 Filed 6-13-03; 8:45 am]

BILLING CODE 3510-DS-P